DEPARTMENT OF COMMERCE

National Oceanic and Atmospheric Administration

RIN 0648-XA861

Marine Mammals; File No. 16473

AGENCY: National Marine Fisheries Service (NMFS), National Oceanic and Atmospheric Administration (NOAA), Commerce.

ACTION: Notice; issuance of permit.

SUMMARY: Notice is hereby given that a permit has been issued to D. Ann Pabst, Ph.D., University of North Carolina Wilmington, to conduct research on marine mammals.

ADDRESSES: The permit and related documents are available for review upon written request or by appointment in the following offices:

Permits and Conservation Division, Office of Protected Resources, NMFS, 1315 East-West Highway, Room 13705, Silver Spring, MD 20910; phone (301) 427-8401; fax (301) 713-0376; Northeast Region, NMFS, 55 Great Republic Drive, Gloucester, MA 01930; phone (978) 281-9328; fax (978) 281-9394; and Southeast Region, NMFS, 263 13th Avenue South, Saint Petersburg, FL 33701; phone (727) 824-5312; fax (727) 824-5309.

FOR FURTHER INFORMATION CONTACT: Kristy Beard or Carrie Hubard, (301) 427-8401.

SUPPLEMENTARY INFORMATION: On December 9, 2011, notice was published in the Federal Register (76 FR 76950) that a request for a permit to conduct research on humpback (Megaptera novaeangliae), fin (Balaenoptera physalus), sperm (Physeter macrocephalus), North Atlantic right (Eubalaena glacialis), sei (B. borealis), minke (B. acutorostrata), dwarf and pygmy sperm (Kogia spp.), unidentified beaked, killer (Orcinus orca), pilot (Globicephala spp.), false killer (Pseudorca crassidens), pygmy killer (Feresa attenuata), and melon-headed (Peponocephala electra) whales, bottlenose (Tursiops truncatus), Atlantic spotted (Stenella frontalis), Risso's (Grampus griseus), Fraser's (Lagenodelphis hosei), rough-toothed (Steno bredanensis), pantropical spotted (S. attenuata), striped (S. coeruleoalba), clymene (S. clymene), spinner (S. longirostris), and short-beaked common dolphins (Delphinus delphis), and harbor porpoise (Phocoena phocoena) had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes takes of the species listed above during aerial and vessel surveys to conduct counts, photo-identification, and behavioral observations and is valid for five years from the date of issuance.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on May 30, 2012.

As required by the ESA, issuance of this permit was based on a finding that such permit: (1) Was applied for in good faith; (2) will not operate to the disadvantage of such endangered species; and (3) is consistent with the purposes and policies set forth in section 2 of the ESA.

Dated: June 1, 2012.
Tammy C. Adams,
Acting Chief, Permits and Conservation Division, Office of Protected Resources, National Marine Fisheries Service.

[FR Doc. 2012-13734 Filed 6-5-12; 8:45 am]

BILLING CODE 3510-22-P